DEPARTMENT OF LABOR

Employment and Training Administration

[TA-W-40,960]

Alfa-Laval Incorporated Formerly Known As Tri-Clover Kenosha, WI; Notice of Termination of Investigation

Pursuant to Section 221 of the Trade Act of 1974, an investigation was initiated on March 11, 2002 in response to a petition filed on behalf of workers at Alfa Laval Inc., formerly known as Tri-Clover, Pleasant Prairie, Wisconsin. According to evidence developed in the course of the investigation, the location of the subject facility is Kenosha, Wisconsin and not Pleasant Prairie as listed in the petition.

A negative determination applicable to the petitioning group of workers was issued on January 22, 2002 (TA-W-40,590). No new information is evident which would result in a reversal of the Department's previous determination. Consequently, further investigation in this case would serve no purpose, and the investigation has been terminated.

Dated: Signed in Washington, DC this 8th day of April, 2002.
Linda G. Poole,
Certifying Officer, Division of Trade Adjustment Assistance.

[FR Doc. 02-9753 Filed 4-19-02; 8:45 am]

BILLING CODE 4510-30-M